OFFICE OF SCIENCE AND TECHNOLOGY POLICY

Notice of Availability and Request for Comments; Federal Flood Standard Support website and Tool Beta Version

AGENCY: Office of Science and Technology Policy (OSTP).

ACTION: Notice of availability and request for comments.

SUMMARY: Flooding is the most common and costly natural hazard in the United States. The Office of Science and Technology Policy (OSTP) is requesting public comments on the beta version of the Federal Flood Standard Support website (available at http://floodstandard.climate.gov) and the Federal Flood Standard Support Tool (available at http://floodstandard.climate.gov/tool) to assist Federal agencies and applicants or recipients of Federal financial assistance in the implementation of the Federal Flood Risk Management Standard (FFRMS). OSTP is seeking comments on the beta version of these digital resources.

DATES: Interested persons and organizations are invited to submit comments on or before May 28, 2024.

ADDRESSES: Interested individuals and organizations should submit comments electronically via to https://www.regulations.gov/. Due to time constraints, mailed paper submissions will not be accepted, and electronic submissions received after the deadline may not be incorporated or taken into consideration.

Instructions: Federal eRulemaking Portal: Go to https://www.regulations.gov/ to submit your comments electronically. Information on how to use Regulations.gov, including instructions for accessing agency documents, submitting comments, and viewing the docket, is available on the site under “FAQ” (https://www.regulations.gov/faq).

Privacy Note: OSTP's policy is to make all appropriate comments received from members of the public available for public viewing in their entirety on the Federal eRulemaking Portal at https://www.regulations.gov/. Therefore, commenters should be careful to include in their comments only information that they wish to make publicly available. OSTP requests that no proprietary information, copyrighted information, or personally identifiable information be submitted in response to this notice of availability and request for comments.

Information obtained from this Request for Comments may be used by the Government on a non-attribution basis for planning and strategy development. OSTP will not respond to individual submissions. A response to this Request for Comments will not be viewed as a binding commitment to develop or pursue the project or ideas discussed. This Request for Comments is not accepting applications for financial assistance or financial incentives.

Responses containing references, studies, research, and other empirical data that are not widely published should include copies of or electronic links to the referenced materials. Responses from minors, or responses containing profanity, vulgarity, threats, or other inappropriate language or content will not be considered.

Comments submitted in response to this notice are subject to the Freedom of Information Act (FOIA). Responses to this Request for Comments may be posted without change online. Please note that the United States Government will not pay for response preparation, or for the use of any information contained in a response.

FOR FURTHER INFORMATION CONTACT: For additional information, please direct questions to Dr. Kristin Ludwig, OSTP Assistant Director for Resilience Science and Technology, at FederalFloodStandardTool@ostp.eop.gov or (202) 881-7711.

SUPPLEMENTARY INFORMATION:

I. Background

Flooding is the most common and costly natural hazard in the United States. From 1980-2023, flood-related losses have cost our Nation an average of $4.3 billion per year,¹ and a changing climate means that communities, homes, property, and critical infrastructure are increasingly exposed to more frequent and intense extreme events and sea level rise.² Understanding the risks that flooding poses to communities, national defense, and our economy is critical for Federal agencies to effectively serve the public.

¹ NOAA National Centers for Environmental Information (NCEI) U.S. Billion-Dollar Weather and Climate Disasters (2024). https://www.ncei.noaa.gov/access/billions/, DOI: 10.25921/stkw-7w73.

² USGCRP, 2023: Fifth National Climate Assessment. Crimmins, A.R., C.W. Avery, D.R. Easterling, K.E. Kunkel, B.C. Stewart, and T.K. Maycock, Eds. U.S. Global Change Research Program, Washington, DC, USA. https://doi.org/10.7930/NCA5.2023.

Executive Order (E.O.) 13690, Establishing a Federal Flood Risk Management Standard and a Process for Further Soliciting and Considering Stakeholder Input,³ establishes a Federal Flood Risk Management Standard (FFRMS) so that Federal agencies can take actions to enhance the Nation's resilience to current and future flooding. E.O. 13690, as reinstated by E.O. 14030, Climate-Related Financial Risk,⁴ amended and built upon E.O. 11988, Floodplain Management ⁵ by directing Federal agencies to take action to reduce the risk of flood loss, to minimize the impact of floods on human safety, health, and welfare, and to restore and preserve the natural and beneficial values of floodplains. Under these Executive Orders, Federal agencies are directed to conduct a review of their proposed actions—including the development of key infrastructure projects and decisions to provide Federal financial assistance. The goal of this review is to avoid long- and short-term adverse impacts associated with development in or near a floodplain. When planning a new federally funded project such as a business building or key infrastructure, Federal agencies typically follow an eight-step process as described in the Guidelines for Implementing Executive Order 11988, Floodplain Management, and Executive Order 13690, Establishing a Federal Flood Risk Management Standard and a Process for Further Soliciting and Considering Stakeholder Input.⁶

³ 80 FR 6425, January 30, 2015.

⁴ 86 FR 27967, May 20, 2021.

⁵ 42 FR 26951, May 24, 1977.

⁶ See, e.g., 24 CFR 55.1, and Guidelines for Implementing Executive Order 11988, Floodplain Management, and Executive Order 13690, Establishing a Federal Flood Risk Management Standard and a Process for Further Soliciting and Considering Stakeholder Input (Oct. 2015), https://www.fema.gov/sites/default/files/documents/fema_implementing-guidelines-EO11988-13690_10082015.pdf.

Under E.O. 11988, floodplain areas to consider were the areas subject to flooding by the one-percent annual chance flood, also known as the base flood. These areas were typically identified by the Department of Homeland Security and the Federal Emergency Management Agency (FEMA) in their Flood Insurance Rate Maps.⁷ E.O. 13690 expanded the floodplain of consideration for federally funded projects ⁸ to a higher elevation to address current and future flood risk due to the effects of climate change and other future conditions. E.O. 13690 also encourages climate-conscious resilient design. E.O. 13690 directs Federal agencies to select from several different approaches to establish the FFRMS floodplain. The approaches outlined in E.O. 13690 are:

⁷ See https://www.fema.gov/flood-maps.

⁸ Federally funded projects are actions where Federal funds are used for new construction, substantial improvement, or to address substantial damage to structures and facilities.

• Climate-Informed Science Approach (CISA)—The elevation and flood hazard area that result from using the best-available, actionable hydrologic and hydraulic data and methods that integrate current and future changes in flooding based on climate science. This approach also emphasizes whether the action is critical as one of the factors to consider when conducting the analysis.

• Freeboard Value Approach (FVA)—The elevation and flood hazard area that result from adding an additional two feet to the Base Flood Elevation (BFE; also known as the one-percent-annual-chance-flood or 100-year flood—a flood having a one percent chance of being equaled or exceeded in any given year) for non-critical actions and by adding an additional three feet to the BFE for critical actions.

• 0.2-Percent-Annual-Chance Flood Approach (0.2PFA)—The area subject to flooding by the 0.2-percent-annual-chance flood or the 500-year flood—a flood having a 0.2 percent chance of being equaled or exceeded in any given year.

• The elevation and flood hazard area that result from using any other method identified in an update to the FFRMS.

Additional information, including an instructional video, on floodplains and the FFRMS is available at https://www.fema.gov/floodplain-management/intergovernmental/federal-flood-risk-management-standard and https://www.hud.gov/program_offices/comm_planning/environment_energy/ffrms.

II. Resources for Implementing the Federal Flood Risk Management Standard

A number of resources have been developed to help users learn about and implement the FFRMS. The 2023 FFRMS Floodplain Determination Job Aid ⁹ was developed to help Federal agencies charged with identifying whether a federally funded project will take place in the FFRMS floodplain. Building on the FFRMS Floodplain Determination Job Aid, members of the Flood Resilience Interagency Working Group ¹⁰ have developed the Federal Flood Standard Support website to help Federal agencies and their non-Federal partners implement the FFRMS. The website includes a Federal Flood Standard Support Tool to help users determine if a proposed federally funded project will be located within an FFRMS floodplain, based on the CISA or FVA. The website also includes a number of resources that have undergone interagency review:

⁹ https://www.fema.gov/sites/default/files/documents/fema_ffrms-floodplain-determination-job-aid.pdf.

¹⁰ See https://www.fema.gov/floodplain-management/intergovernmental/white-house-flood-resilience-interagency-working-group.

• a video on determining the FFRMS floodplain

• Federal Flood Standard Support Tool User Manual

• FFRMS Interim Flood Mapping Data Development Methodology report

• 2023 CISA State of the Science Report

• 2023 FFRMS Floodplain Determination Job Aid

• information on nature-based solutions that Federal and non-Federal partners could use in their efforts to identify practicable alternatives and minimization techniques.

Request for Comment

While OSTP invites all comments responsive to this request for comments, of key interest are: (a) feedback on the functionality of the Federal Flood Standard Support Tool in providing a user-friendly visual representation and actionable information on FFRMS approaches for federally funded projects; (b) insights on potential training and/or technical assistance needs associated with use of the Federal Flood Standard Support Tool; and (c) suggestions for clarifying the communication of the flood mapping data development methodology. Please be specific in comments provided and/or recommendations for changes to the digital resources.

Response to this Request for Comments is voluntary. Comments on the beta version of the Federal Flood Standard Support website and Tool will be considered as modifications are made to the website and Tool. Please note, as this is the beta release, over the course of the coming months, additional data will be incorporated to provide more expansive coverage.

Dated: April 8, 2024.
Stacy Murphy,
Deputy Chief Operations Officer/Security Officer.

[FR Doc. 2024-07721 Filed 4-10-24; 8:45 am]

BILLING CODE 3270-F1-P